SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before February 10, 2006.

ADDRESSES: Send all comments regarding whether this information collection is necessary for the proper performance of the function of the agency, whether the burden estimates are accurate, and if there are ways to minimize the estimated burden and enhance the quality of the collection, to Joseph Shattan, Director, SBA Center for Faith-Based and Community Initiatives, Small Business Administration, 409 3rd Street, SW., Suite 7000, Wash., DC 20416.

FOR FURTHER INFORMATION CONTACT: Joseph Shattan, Director, SBA Center for Faith-Based and Community Initiatives 202-205-7316, joseph.shattan@sba.gov, Curtis B. Rich, Management Analyst, 202-205-7030, curtis.rich@sba.gov.

SUPPLEMENTARY INFORMATION: Title: “SBA Center Faith-Based Community Initiatives Outreach Survey.”

Description of Respondents: Attendees at Faith-Based Community Initiatives and Community Initiatives.

Form No.: N/A.

Annual Responses: 20,000.

Annual Burden: 1,000.

Jacqueline White,
Chief, Administrative Information Branch.

[FR Doc. E5-7203 Filed 12-9-05; 8:45 am]

BILLING CODE 8025-01-P